DEPARTMENT OF LABOR

Employment and Training Administration

[TA-W-65,486]

Ortho Pharmaceutical, A Division Of Janssen Ortho, LLC, Manati, PR; Notice of Termination of Investigation

In accordance with Section 221 of the Trade Act of 1974, as amended, an investigation was initiated on March 4, 2009 in response to a petition filed by a Puerto Rico Workforce Office representative on behalf of workers of Ortho Pharmaceutical, a Division of Janssen Ortho, LLC, Manati, Puerto Rico.

The petitioner has requested that the petition be withdrawn. Consequently, the investigation has been terminated.

Signed in Washington, DC, this 8th day of April 2009.
Richard Church,
Certifying Officer, Division of Trade Adjustment Assistance.

[FR Doc. E9-10584 Filed 5-6-09; 8:45 am]

BILLING CODE 4510-FN-P